DEPARTMENT OF HOUSING AND URBAN DEVELOPMENT

[Docket No. FR-6141-N-03]

Notice of a Federal Advisory Committee Meeting; Manufactured Housing Consensus Committee

AGENCY: Office of the Assistant Secretary for Housing—Federal Housing Commissioner, Department of Housing and Urban Development (HUD).

ACTION: Notice of a Federal Advisory Committee Meeting: Manufactured Housing Consensus Committee (MHCC).

SUMMARY: This notice sets forth the schedule and proposed agenda for a meeting of the MHCC. The meeting is open to the public and the site is accessible to individuals with disabilities. The agenda provides an opportunity for citizens to comment on the business before the MHCC.

DATES: The meeting will be held on April 30 through May 1, 2019, 9:00 a.m. to 5:00 p.m., May 2, 2019, 9:00 a.m. to 12:30 p.m. Eastern Daylight Time (EDT) daily.

ADDRESSES: The meeting will be held at the Holiday Inn Washington—Capitol, 550 C Street SW, Washington, DC 20024.

FOR FURTHER INFORMATION CONTACT: Teresa B. Payne, Acting Administrator, Office of Manufactured Housing Programs, Department of Housing and Urban Development, 451 7th Street SW, Room 9164, Washington, DC 20410, telephone (202) 708-6423 (this is not a toll-free number). Persons who have difficulty hearing or speaking may access this number via TTY by calling the toll-free Federal Information Relay Service at 800-877-8339.

SUPPLEMENTARY INFORMATION: Notice of this meeting is provided in accordance with the Federal Advisory Committee Act, 5. U.S.C. App. 10(a)(2) through implementing regulations at 41 CFR 102-3.150. The MHCC was established by the National Manufactured Housing Construction and Safety Standards Act of 1974, 42 U.S.C. 5403(a)(3), as amended by the Manufactured Housing Improvement Act of 2000 (Pub. L. 106-569). According to 42 U.S.C. 5403, as amended, the purposes of the MHCC are to:

• Provide periodic recommendations to the Secretary to adopt, revise, and interpret the Federal manufactured housing construction and safety standards in accordance with this subsection;

• Provide periodic recommendations to the Secretary to adopt, revise, and interpret the procedural and enforcement regulations, including regulations specifying the permissible scope and conduct of monitoring in accordance with subsection (b);

• Be organized and carry out its business in a manner that guarantees a fair opportunity for the expression and consideration of various positions and for public participation.

The MHCC is deemed an advisory committee not composed of Federal employees.

Public Comment: Citizens wishing to make comments on the business of the MHCC are encouraged to register by or before Tuesday, April 15, 2019, by contacting Home Innovation Research Labs; Attention: Kevin Kauffman, 400 Prince Georges Blvd., Upper Marlboro, MD 20774, or email to mhcc@homeinnovation.com or call 1-888-602-4663. Written comments are encouraged. The MHCC strives to accommodate citizen comments to the extent possible within the time constraints of the meeting agenda. Advance registration is strongly encouraged. The MHCC will also provide an opportunity for public comment on specific matters before the MHCC.

Tentative Agenda

Tuesday, April 30, 2019

I. Call to Order—Chair & Designated Federal Officer (DFO)

II. Opening Remarks—Chair & HUD

A. Roll Call—Administering Organization (AO)

B. Introductions

i. HUD Staff

ii. Guests

C. Administrative Announcements—DFO & AO

III. Approve Draft Minutes from September 11-13, 2018, MHCC meeting

IV. Update from Regulatory Enforcement Subcommittee or Review Current Log & Action Items

V. Review of Current Log & Action Items

VI. Break

VII. Continue Review of Current Log & Action Items

VIII. Public Comment Period

IX. Lunch

X. Continue Review of Current Log & Action Items

XI. Break

XII. Continue Review of Current Log & Action Items

XIII. Daily Wrap Up—DFO & AO

XIV. Adjourn

Wednesday, May 1, 2019

I. Reconvene Meeting—Chair & Designated Federal Officer (DFO)

II. Opening Remarks—Chair

A. Roll Call—Administering Organization (AO)

III. Update from Technical Systems Subcommittee or Review Current Log & Action Items

IV. Break

V. Continue Review of Current Log & Action Items

VI. Public Comment

VII. Lunch

VIII. Continue Review of Current Log & Action Items

IX. Break

X. Continue Review of Current Log & Action Items or Subcommittee/Task Group Meetings

XI. Daily Wrap Up—DFO

XII. Adjourn

Thursday, May 2, 2019

I. Reconvene Meeting—Chair & Designated Federal Officer (DFO)

II. Opening Remarks—Chair

A. Roll Call—Administering Organization (AO)

III. Continue Review of Current Log & Action Items or Subcommittee/Task Group Meetings

IV. Break

V. Continue Review of Current Log & Action Items or Subcommittee/Task Group Meetings

VI. Public Comment

VII. Daily Wrap Up—DFO & AO

VIII. Adjourn

Dated: February 8, 2019.
Brian D. Montgomery,
Assistant Secretary for Housing—Federal Housing Commissioner.

[FR Doc. 2019-02358 Filed 2-13-19; 8:45 am]

BILLING CODE 4210-67-P